DEPARTMENT OF THE DEFENSE

Office of the Secretary of Defense

Missile Defense Advisory Committee Meeting Cancellation

AGENCY: Department of Defense; Missile Defense Agency.

ACTION: Notice of cancelled meeting.

SUMMARY: Due to the last minute unavailability of a quorum, the Missile Defense Advisory Committee meeting scheduled for Wednesday, April 2 and Thursday, April 3, 2008, from 8 a.m. to 5 p.m. was cancelled. At this date, neither the Department of Defense nor the committee's Designated Federal Officer has plans to reschedule the meeting.

FOR FURTHER INFORMATION CONTACT: Mr. Al Bready, Designated Federal Officer at mdac@mda.mil, phone/voice mail 703-695-6438, or mail at 7100 Defense Pentagon, Washington, DC 20301-7100.

SUPPLEMENTARY INFORMATION: The Department of Defense announced this closed meeting in a notice that was published in the Federal Register (73 FR 15495) dated March 24, 2008.

Dated: April 18, 2008.
Patricia L. Toppings,
Alternate OSD Federal Register Liaison Officer, Department of Defense.

[FR Doc. E8-9086 Filed 4-24-08; 8:45 am]

BILLING CODE 5001-06-P